DEPARTMENT OF VETERANS AFFAIRS

National Research Advisory Council, Notice of Meeting

The Department of Veterans Affairs (VA) gives notice under the Federal Advisory Committee Act, 5 U.S.C. ch. 10, that the National Research Advisory Council (NRAC) will hold a meeting on Wednesday, October 30, 2024, at 811 Vermont Avenue NW, Room 4042, Washington, DC 20420. A virtual attention option is available via Teams. The teleconference number is 1-872-701-0185, Phone Conference ID: 172 005 576# or the meeting link is: https://teams.microsoft.com/l/meetup-join/19%3ameeting_OWNhODZlODAtODE2MS00NGFiLTkyMjctZmE2OGQyNDFmMGMz%40thread.v2/0?context=%7b%22Tid%22%3a%22e95f1b23-abaf-45ee-821d-b7ab251ab3bf%22%2c%22Oid%22%3a%226f005f4f-99eb-4f67-8e59-6062b290a2c8%22%7d.

The meeting will convene at 8:30 a.m. and end at 3:15 p.m. Eastern Standard Time. This meeting is open to the public and will include time reserved for public comment at the end of the meeting. The public comment period will be 30 minutes. Individual stakeholders will be afforded three to five minutes to express their comments.

The purpose of NRAC is to advise the Secretary on research conducted by the Veterans Health Administration, including policies and programs targeting the high priority of Veterans' health care needs.

On October 30, 2024, the agenda will include remarks from the VA Chief of Staff; an overview of the Office of Research and Development enterprise transformation; discussion of the administration transition, subcommittee updates (Sensitive Species, Air Force Health Study, and Diversity, Equity and Inclusion); an update on fiscal year (FY) 2024 NRAC Recommendation(s); a proposal for a new NRAC subcommittee: VA Research and Emerging Health System Priorities; a presentation on research affiliation agreements; an overview of NRAC FY 2024 Program Assessment and NRAC FY 2025 Ops Plan; a discussion of key areas of interest for NRAC in FY2025; and public comments.

Members of the public may submit written statements for review by the NRAC in advance of the meeting. Public comments may be received no later than close of business October 18, 2024, for inclusion in the official meeting record. Please send statements to Rashelle Robinson, Designated Federal Officer, Office of Research and Development (14RD), Department of Veterans Affairs, 811 Vermont Avenue NW, Washington, DC 20420, at 202-632.7351, or Rashelle.robinson@va.gov. Any member of the public seeking additional information should contact Rashelle Robinson at the above phone number or email address noted above.

Dated: October 1, 2024.
LaTonya L. Small,
Federal Advisory Committee Management Officer.

[FR Doc. 2024-23019 Filed 10-3-24; 8:45 am]

BILLING CODE 8320-01-P